DEPARTMENT OF ENERGY

Energy Information Administration

Policy Statement; Energy Information Administration Policy for Disseminating Revisions to Petroleum Supply Reporting System Data

AGENCY: Energy Information Administration (EIA), Department of Energy (DOE).

ACTION: Policy statement: Energy Information Administration policy for disseminating revisions to Petroleum Supply Reporting System data.

SUMMARY: The EIA has formalized its existing policy for disseminating revisions to Petroleum Supply Reporting System (PSRS) data. PSRS information products include data on production, receipts, inputs, movements, and stocks of crude oil, petroleum products, and natural gas liquids in the United States.

DATES: This policy becomes effective on September 7, 2004.

ADDRESS: Requests for information or questions about this policy should be directed to Ms. Stefanie Palumbo of EIA's Petroleum Division. Ms. Palumbo may be contacted by phone (202-586-6866), FAX (202-586-5846), or e-mail (stefanie.palumbo@eia.doe.gov). Her mailing address is Petroleum Division, EI-42, Forrestal Building, U.S. Department of Energy, 1000 Independence Ave., SW., Washington, DC 20585.

FOR FURTHER INFORMATION CONTACT: Requests for additional information about this policy should be directed to Ms. Palumbo at the address listed above. Information on EIA's petroleum supply program is available on EIA's Internet site at http://www.eia.doe.gov/oil_gas/petroleum/info_glance/petroleum.html.

SUPPLEMENTARY INFORMATION:

I. Background

II. Discussion of Comments

III. Current Actions

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The purpose of EIA's Petroleum Supply Reporting System (PSRS) is to collect and disseminate basic and detailed data to meet EIA's mandates and energy data users' needs for credible, reliable, and timely information on U.S. petroleum supply. Adequate understanding of the U.S. petroleum industry requires data on production, receipts, inputs, movements, and stocks of crude oil, petroleum products, and natural gas liquids.

The PSRS is currently comprised of 16 surveys (i.e., six weekly surveys, nine monthly surveys, and one annual survey). The surveys are:

• EIA-800, Weekly Refinery and Fractionator Report,

• EIA-801, Weekly Bulk Terminal Report,

• EIA-802, Weekly Product Pipeline Report,

• EIA-803, Weekly Crude Oil Stocks Report,

• EIA-804, Weekly Imports Report,

• EIA-805, Weekly Terminal Blenders Report,

• EIA-810, Monthly Refinery Report,

• EIA-811, Monthly Bulk Terminal Report,

• EIA-812, Monthly Product Pipeline Report,

• EIA-813, Monthly Crude Oil Report,

• EIA-814, Monthly Imports Report,

• EIA-815, Monthly Terminal Blenders Report,

• EIA-816, Monthly Natural Gas Liquids Report,

• EIA-817, Monthly Tanker and Barge Movement Report,

• EIA-819, Monthly Oxygenate Report, and

• EIA-820 Annual Refinery Report.

The data are disseminated in EIA's petroleum supply information products—the Weekly Petroleum Status Report (WPSR), This Week in Petroleum (TWIP), the Petroleum Supply Monthly (PSM), and the Petroleum Supply Annual Volumes 1 and 2 (PSA). Within five days of the close of the reference week (excluding holiday weeks), weekly PSRS data are disseminated in the WPSR and TWIP to provide timely, relevant snapshots of the U.S. petroleum industry. Within two months of the close of a reference month, data based on the monthly surveys is disseminated in the PSM. About five months after the end of the reference year, final monthly data as well as annual data are published in the PSA.

The EIA provides the public and other Federal agencies with opportunities to comment on collections of energy information conducted by EIA. As appropriate, EIA also requests comments on important issues relevant to its dissemination of energy information. Comments received help the EIA when preparing information collections and information products necessary to EIA's mission.

On July 9, 2004, EIA issued a Federal Register notice (69 FR 41461) requesting public comments on the policy for disseminating revisions to PSRS data. In that notice, EIA discussed conditions affecting the accuracy of PSRS data, reasons for revisions to PSRS data, and the existing policy for disseminating PSRS data. That policy has been in effect for over ten years.

II. Discussion of Comments

In response to the Federal Register notice requesting comments on the PSRS revision policy, EIA received comments from one company. While the company expressed agreement with the policy for disseminating revisions to PSRS data, it did address the situation where a company resubmits revised data to EIA. The company requested that EIA staff should review resubmitted data before conducting follow-up on the originally submitted data. PSRS survey staff have been reminded to consider all information submitted by a company before conducting follow-up.

III. Current Actions

EIA is formally stating its policy for disseminating revisions to PSRS data. This policy has been in effect for over ten years.

With respect to the weekly PSRS data, EIA will only disseminate revised data if the revision is expected to substantively affect understanding of the U.S. petroleum supply. Whether to disseminate a revision to weekly data will be based on EIA's judgment of the revision's expected effect. A revision will be disseminated in the next regularly scheduled release of the weekly products. Weekly PSRS data have been revised on average only once every five years.

The monthly PSRS data reflect EIA's official data on petroleum supply and are considered to be more accurate than the weekly data because they are generally based upon company accounting records instead of company estimates and EIA has more time to edit and correct anomalous data. With respect to the monthly PSRS data, EIA will only disseminate revised data during the year if the revision is expected to substantively affect understanding of the U.S. petroleum supply. Whether to disseminate a revision during the year will be based on EIA's judgment of the revision's expected effect. At the end of year, the monthly data are revised to reflect all resubmitted data received during the year. These official final monthly petroleum supply data are included in the PSA. To assist users in understanding the expected effect of revisions to monthly data during the year, EIA publishes a separate monthly table, Impact of Resubmissions on Major Series, in each release of the PSM. During the last 10 years, EIA has not published revised monthly data outside this scheduled policy.

The PSA reflects EIA's final data on petroleum supply and will only be revised if, in EIA's judgment, a revision is expected to substantively affect understanding of the U.S. petroleum supply. EIA has not revised PSA data during the last 10 years.

When EIA disseminates any revised PSRS data, it will alert users to the affected data value(s) that are revised.

EIA reserves the right to revisit or amend this policy. However, EIA shall not establish a new PSRS revision policy without prior notification in the Federal Register.

Statutory Authority: Section 52 of the Federal Energy Administration Act (Pub. L. 93-275, 15 U.S.C. 790a).

Issued in Washington, DC, on August 31, 2004.
Guy F. Caruso,
Administrator, Energy Information Administration.

[FR Doc. 04-20225 Filed 9-3-04; 8:45 am]

BILLING CODE 6450-01-P